DEPARTMENT OF HEALTH AND HUMAN SERVICES

Health Resources and Services Administration

Organ Procurement and Transplantation Network

AGENCY: Health Resources and Services Administration, HHS.

ACTION: Notice of meeting of the Advisory Committee on Organ Transplantation.

SUMMARY: Pursuant to Public Law 92-463, the Federal Advisory Committee Act, as amended (5 U.S.C. Appendix 2), notice is hereby given of the first meeting of the Advisory Committee on Organ Transplantation (ACOT), Department of Health and Human Services (HHS). The meeting will be held from approximately 8:15 a.m. to 6 p.m. on December 3, 2001, and from 8 a.m. to 5:15 p.m. on December 4, 2001, at the Hyatt Dulles, at Dulles International Airport, 2300 Dulles Corner Boulevard, Herndon, Virginia 20171. The meeting will be open to the public; however, seating is limited and pre-registration is encouraged (see below).

SUPPLEMENTARY INFORMATION: Under the authority of 42 U.S.C. section 217a, section 222 of the Public Health Service Act, as amended, and 42 CFR 121.12 (2000), the ACOT was established to assist the Secretary in enhancing organ donation, ensuring that the system of organ transplantation is grounded in the best available medical science, and assuring the public that the system is as effective and equitable as possible, and, thereby, increasing public confidence in the integrity and effectiveness of the transplantation system. The ACOT is composed of 41 members, including the Chair. Members are non-governmental individuals with diverse backgrounds in fields such as organ donation, health care public policy, transplantation medicine and surgery, critical care medicine and other medical specialties involved in the identification and referral of donors, non-physician transplant professions, nursing, epidemiology, immunology, law and bioethics, behavioral sciences, economics and statistics, as well as representatives of transplant candidates, transplant recipients, organ donors, and family members.

The ACOT will consider a number of subjects relating to the means of expanding the donor pool and increasing organ donation; and it will also review the organ allocation policies submitted by the Organ Procurement and Transplantation Network (OPTN) to HHS for approval. The draft meeting agenda and a registration form are available on the Division of Transplantation's Web site: http://www.hrsa.gov/osp/dot/whatsnew.htm or the Department's donation Web site at: http://www.organdonor.gov/news.htm. The completed registration form should be submitted by facsimile to McFarland and Associates, Inc., the logistic support contractor for the meeting, at FAX number (301) 589-2567. Individuals without access to the Internet who wish to register may call McFarland and Associates, Inc., at 301-562-5362. Individuals who plan to attend the meeting and need special assistance, such as sign language interpretation or other reasonable accommodations, should notify the ACOT Executive Director, Jack Kress, in advance of the meeting. Mr. Kress may be reached by telephone at 301-443-8653, by e-mail at: jkress2@hrsa.gov, or in writing at the address of the Division of Transplantation provided below. Management and support services for ACOT functions are provided by the Division of Transplantation, Office of Special Programs, HRSA, Room 7C-22, Parklawn Building, 5600 Fishers Lane, Rockville, Maryland 20857. Telephone 301-443-7577.

There will be a limited period of time for presentation of selected public comments before the Committee considers each allocation policy and donation issue. The public may review the current and proposed modified OPTN policies on the Division of Transplantation's Web site at: http://www.hrsa.gov/osp/dot/whatsnew.htm and may also obtain this material, as well as reports of committee discussions of these policies by contacting the Division of Transplantation at 301-443-7577. While public comments are welcome for possible presentation, please note that the Committee will be working with a full agenda and a limited amount of time. Therefore, to facilitate this process, we recommend that individuals interested in providing public comments submit those comments in writing by November 16, 2001, to the Executive Director of the Committee (address above). The Department reserves the right to select comments from among those submitted for oral presentation within the time available, although it will include all comments in the record of the ACOT meeting.

Dated: October 19, 2001.
Elizabeth M. Duke,
Acting Administrator.

[FR Doc. 01-26932 Filed 10-24-01; 8:45 am]

BILLING CODE 4165-15-P